TENNESSEE VALLEY AUTHORITY

[Meeting No. 10-01]

Sunshine Act Meeting Notice

The TVA Board of Directors will hold a public meeting on February 11, 2010, at the Holiday Inn Hotel and Suites, Bristol Convention Center, Ballrooms B/C, 3005 Linden Drive, Bristol, Virginia 24202, to consider the matters listed below. The public may comment on any agenda item or subject at a public listening session which begins at 8:30 a.m. Immediately following the end of the public listening session, the meeting will be called to order to consider the agenda items listed below. Please Note: Speakers must pre-register online at TVA.gov or sign in before the meeting begins at 8:30 a.m. on the day of the meeting. The Board will answer questions from the news media following the Board meeting.

Status: Open.

Agenda

Old Business

Approval of minutes of November 19, 2009, Board Meeting.

New Business

1. Chairman's Report.

2. President's Report.

3. Report of the Finance, Strategy, Rates, and Administration Committee:

A. Winning Performance/Long-Term Incentive Compensation for Fiscal Year 2010.

B. Executive Compensation.

C. Extension of interim joint-ownership arrangements with Seven States Corporation for Southaven Power Plant.

4. Report of the Operations, Environment, and Safety Committee:

A. TVA Transmission Standards of Conduct.

5. Report of the Audit, Governance, and Ethics Committee.

6. Report of the Community Relations and Energy Efficiency Committee.

For more information: Please call TVA Media Relations at (865) 632-6000, Knoxville, Tennessee. People who plan to attend the meeting and have special needs should call (865) 632-6000. Anyone who wishes to comment on any of the agenda in writing may send their comments to: TVA Board of Directors, Board Agenda Comments, 400 West Summit Hill Drive, Knoxville, Tennessee 37902.

February 4, 2010.
Maureen H. Dunn,
General Counsel and Secretary.

[FR Doc. 2010-2902 Filed 2-5-10; 11:15 am]

BILLING CODE 8120-08-P